DEPARTMENT OF TRANSPORTATION

[Docket No. FRA-2009-0001-N-26]

Notice and Request for Comments

AGENCY: Federal Railroad Administration, DOT.

ACTION: Notice and request for comments.

SUMMARY: In compliance with the Paperwork Reduction Act of 1995 (44 U.S.C. 3501 et seq.), this notice announces that the Information Collection Requirement (ICR) abstracted below has been forwarded to the Office of Management and Budget (OMB) for review and comment. The ICR describes the nature of the information collection and its expected burden. The Federal Register notice with a 60-day comment period soliciting comments on the following collection of information was published on August 24, 2009 (74 FR 42732).

DATES: Comments must be submitted on or before December 3, 2009.

FOR FURTHER INFORMATION CONTACT: Mr. Robert Brogan, Office of Safety, Planning and Evaluation Division, RRS-21, Federal Railroad Administration, 1200 New Jersey Ave., SE., 3rd Floor, Mail Stop 25, Washington, DC 20590 (telephone: (202) 493-6292), or Ms. Nakia Jackson, Office of Information Technology, RAD-20, Federal Railroad Administration, 1200 New Jersey Ave., SE., 3rd Floor, Mail Stop 35, Washington, DC 20590 (telephone: (202) 493-6073). (These telephone numbers are not toll-free.)

SUPPLEMENTARY INFORMATION: The Paperwork Reduction Act of 1995 (PRA), Public Law No. 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On August 24, 2009, FRA published a 60-day notice in the Federal Register soliciting comment on this ICR that the agency was seeking OMB approval. 74 FR 42732. FRA received no comments in response to this notice.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the information collection requirement (ICR) and the expected burden for the ICR being submitted for clearance by OMB as required by the PRA.

Title: ARRA Solicitation of Applications and Notice of Funds Availability for High-Speed Rail Corridors and Intercity Passenger Rail Service—Capital Assistance and Planning Grants Program.

OMB Control Number: 2130-0583.

Type of Request: Regular Approval of an Emergency Clearance.

Affected Public: 50 States and Amtrak.

Abstract: On June 23, 2009, FRA published a Notice of Funds Availability (NOFA) and Interim Guidance for the High-Speed Rail (HSR)/Intercity Passenger Rail (IPR) Grant Program. See 74 FR 29900. The NOFA and Interim Guidance documents and additional information about the HSR/IPR Grant Program are available on FRA's public Web site at http://www.fra.dot.gov/us/content/2243. FRA plans on publishing a Final Guidance shortly in the Federal Register, and will also then place the Final Guidance on its Web site. The HSR/IPR Grant Program builds upon President Obama's “Vision for High-Speed Rail in America,” which was issued on April 16, 2009, and which describes a collaborative effort among the Federal Government, States, railroads and other key stakeholder to transform America's transportation system by investing in an efficient, high-speed passenger rail network of 100 to 600 mile intercity corridors.

The Interim/Final Guidance documents detail HSR/IPR Grant Program funding opportunities as well as specific application requirements and procedures. The evaluation and selection criteria are intended to prioritize projects that deliver transportation, economic recovery and other public benefits, including energy independence, environmental quality, and livable communities; ensure project success through effective program management, financial planning and stakeholder commitments; and emphasize a balanced approach to project types, locations, innovation, and timing. The program grant funds are being made available under the American Recovery and Reinvestment Act of 2009 (ARRA) and the Department of Transportation Appropriations Act of fiscal years 2008 and 2009. ARRA established the HSRIPR Program—a new program that provides $8 billion to support the Administration's vision for developing high-speed rail in America.

Form Number(s): FRA F 6180.132; FRA F 6180.133; FRA F 6180.134; FRA F 6180.135; FRA F 6180.138; FRA F 6180.139; SF-424; SF-424A; SF-424C; SF-424D; SF-LLL.

Annual Estimated Burden Hours: 47,450 hours.

Addressee: Send comments regarding this information collection to the Office of Information and Regulatory Affairs, Office of Management and Budget, 725 Seventeenth Street, NW., Washington, DC, 20503, Attention: FRA Desk Officer. Comments may also be sent via e-mail to OMB at the following address: oira_submissions@omb.eop.gov.

Comments are invited on the following: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC, on October 28, 2009.
Kimberly Coronel,
Director, Office of Financial Management,
Federal Railroad Administration.

[FR Doc. E9-26445 Filed 11-2-09; 8:45 am]

BILLING CODE 4910-06-P